DEPARTMENT OF TRANSPORTATION

Federal Motor Carrier Safety Administration

[Docket No. FMCSA-2011-0189]

Qualification of Drivers; Exemption Applications; Vision

AGENCY: Federal Motor Carrier Safety Administration (FMCSA), DOT.

ACTION: Notice of applications for exemptions; request for comments.

SUMMARY: FMCSA announces receipt of applications from 16 individuals for exemption from the vision requirement in the Federal Motor Carrier Safety Regulations. If granted, the exemptions would enable these individuals to qualify as drivers of commercial motor vehicles (CMVs) in interstate commerce without meeting the Federal vision standard.

DATES: Comments must be received on or before October 7, 2011.

ADDRESSES: You may submit comments bearing the Federal Docket Management System (FDMS) Docket No. FMCSA-2011-0189 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 16 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Darrell G. Anthony

Mr. Anthony, age 64, had an enucleation of his left eye due to a traumatic injury that he sustained in 1952. The best corrected visual acuity in his right eye is 20/20. Following an examination in 2011, his optometrist noted, “I believe that this patient has the visual capacity to operate a commercial vehicle.” Mr. Anthony reported that he has driven straight trucks for 47 years, accumulating 4,700 miles and tractor-trailer combinations for 47 years, accumulating 3.3 million miles. He holds a Class A Commercial Driver's License (CDL) from Texas. His driving record for the last 3 years shows no crashes and no convictions for moving violations in a Commercial Motor Vehicle (CMV).

Jerry W. Branning

Mr. Branning, 66, has a prosthetic left eye due to a traumatic injury that occurred in 1983. The best corrected visual acuity in his right eye is 20/20. Following an examination in 2011, his optometrist noted, “In my opinion this patient has the ability to operate a commercial vehicle.” Mr. Branning reported that he has driven straight trucks for 20 years, accumulating 2 million miles and tractor-trailer combinations for 28 years, accumulating 3.6 million miles. He holds a Class A CDL from Texas. His driving record for the last 3 years shows no crashes but one conviction for speeding in a CMV. He exceeded the speed limit by 10 mph.

Stacey J. Buckingham

Mr. Buckingham, 43, has a prosthetic left eye due to a traumatic injury that occurred more than 25 years ago. The best corrected visual acuity in his right eye is 20/15. Following an examination in 2011, his optometrist noted, “He has sufficient vision required to operate a commercial vehicle.” Mr. Buckingham reported that he has driven straight trucks for 18 years, accumulating 553,000 miles and tractor-trailer combinations for 18 years, accumulating 553,000 miles. He holds a Class D operator's license from Idaho. His driving record for the last 3 years shows no crashes and no convictions for moving violations in a CMV.

Gary E. Butler

Mr. Butler, 58, has had complete loss of vision in his right eye due to a traumatic injury sustained more than 4½ years ago. The best corrected visual acuity in his left eye is 20/20. Following an examination in 2011, his optometrist noted, “I do believe his vision is sufficient to perform the driving tasks required to operate a commercial vehicle.” Mr. Butler reported that he has driven straight trucks for 40 years, accumulating 2 million miles. Within this 40 year time frame, he has also driven tractor-trailer combinations accumulating 2 million miles. He holds a Class A CDL from Montana. His driving record for the last 3 years shows no crashes and no convictions for moving violations in a CMV.

Ronnie J. Fieck

Mr. Fieck, 44, has had macular scarring and glaucoma in his left eye since 2008. The best corrected visual acuity in his right eye is 20/20 and in his left eye, 20/200. Following an examination in 2011, his ophthalmologist noted, “In my medical opinion, Ronald has sufficient vision to perform the driving tasks required to operate a commercial vehicle.” Mr. Fieck reported that he has driven straight trucks for 9 years, accumulating 46,800 miles. He holds a Class D operator's license from Wisconsin. His driving record for the last 3 years shows no crashes and no convictions for moving violations in a CMV.

James E. Knarr, Sr.

Mr. Knarr, 67, has loss of vision in his left eye due to a corneal transplant in 2006. The best corrected visual acuity in his right eye is 20/20 and in his left eye, 20/50. Following an examination in 2011, his ophthalmologist noted, “I certify in my medical opinion that the patient has sufficient vision to perform the driving tasks required to operate a commercial vehicle, consistent with the laws and regulation of DOT guidelines.” Mr. Knarr reported that he has driven tractor-trailer combinations for 41 years, accumulating 4.2 million miles. He holds a Class A CDL from New York. His driving record for the last 3 years shows no crashes and no convictions for moving violations in a CMV.

Michael A. Lawson

Mr. Lawson, 47, has had retinal and iris coloboma in his left eye since birth. The best corrected visual acuity in his right eye is 20/20 and in his left eye, 20/315. Following an examination in 2011, his optometrist noted, “He has sufficient vision to operate a commercial vehicle.” Mr. Lawson reported that he has driven straight trucks for 10 years, accumulating 5,000 miles and tractor-trailer combinations for 5 years, accumulating 75,000 miles. He holds a Class A CDL from Kentucky. His driving record for the last 3 years shows no crashes and no convictions for moving violations in a CMV.

Thomas J. Malama

Mr. Malama, 55, has a prosthetic left eye due to a traumatic injury sustained in 1985. The best corrected visual acuity in his right eye is 20/15. Following an examination in 2011, his optometrist noted, “In my professional opinion, he has sufficient vision and has already demonstrated his ability to perform his driving duties adequately.” Mr. Malama reported that he has driven straight trucks for 33 years, accumulating 634,000 miles. He holds a Class C operator's license from Michigan. His driving record for the last 3 years shows no crashes and no convictions for moving violations in a CMV.

Jeffrey A. Mueller

Mr. Mueller, 55, has had amblyopia in his right eye since childhood. The best corrected visual acuity in his right eye is 20/100 and in his left eye, 20/20. Following an examination in 2011, his optometrist noted, “It is my opinion that Mr. Mueller has sufficient vision to perform the tasks required to operate a CMV.” Mr. Mueller reported that he has driven tractor-trailer combinations for 22 years, accumulating 2.5 million miles. He holds a Class A CDL from Illinois. His driving record for the last 3 years shows no crashes and no convictions for moving violations in a CMV.

Harold L. Pearsall

Mr. Pearsall, 54, has had amblyopia in his right eye since childhood. The best corrected visual acuity in his right eye is 20/100 and in his left eye, 20/25. Following an examination in 2011, his optometrist noted, “In my medical opinion, he has sufficient vision to perform driving tasks required to operate a commercial vehicle.” Mr. Pearsall reported that he has driven straight trucks for 15 months, accumulating 24,000 miles and tractor-trailer combinations for 8 years, accumulating 205,000 miles. He holds a Class A CDL from Pennsylvania. His driving record for the last 3 years shows no crashes and no convictions for moving violations in a CMV.

Phillip M. Pridgen, Sr.

Mr. Pridgen, 55, has had optic atrophy in his left eye since 1991. The best corrected visual acuity in his right eye is 20/20 and in his left eye, light perception. Following an examination in 2011, his optometrist noted, “It is my medical opinion that Mr. Pridgen has sufficient vision to operate a commercial vehicle.” Mr. Pridgen reported that he has driven straight trucks for 2 months, accumulating 12,000 miles and tractor-trailer combinations for 5 years, accumulating 100,000 miles. He holds a Class A CDL from Maryland. His driving record for the last 3 years shows no crashes and no convictions for moving violations in a CMV.

Eric W. Schmidt

Mr. Schmidt, 47, has had amblyopia in his left eye since childhood. The visual acuity in his right eye is 20/20 and in his left eye, 20/150. Following an examination in 2011, his ophthalmologist noted, “Once again it is my medical opinion that Mr. Schmidt has sufficient vision to perform the driving tasks required to operate a commercial vehicle.” Mr. Schmidt reported that he has driven straight trucks for 10 years, accumulating 250,000 miles. He holds a Class E operator's license from Missouri. His driving record for the last 3 years shows no crashes and no convictions for moving violations in a CMV.

Gerald D. Stidham

Mr. Stidham, 49, has a prosthetic right eye due to a traumatic injury that occurred in 2004. The best corrected visual acuity in his left eye is 20/20. Following an examination in 2011, his ophthalmologist noted, “It is my opinion, that Mr. Stidham has sufficient vision to perform the driving tasks that are required of him, including the operation of commercial vehicles.” Mr. Stidham reported that he has driven straight trucks for 20 years, accumulating 260,000 miles and tractor-trailer combinations for 6 years, accumulating 156,000 miles. He holds a Class R operator's license from Colorado. His driving record for the last 3 years shows no crashes and no convictions for moving violations in a CMV.

Douglas A. Suraci

Mr. Suraci, 47, has had optic neuropathy and retinal damage in his right eye due to a traumatic injury he sustained in 2004. The best corrected visual acuity in his right eye is 20/50 and in his left eye, 20/20. Following an examination in 2011, his ophthalmologist noted, “In my opinion, his fields and eye exam show that he is safe for driving a CMV.” Mr. Suraci reported that he has driven straight trucks for 17 years, accumulating 3.4 million miles. He holds a Class D operator's license from New York. His driving record for the last 3 years shows no crashes and no convictions for moving violations in a CMV.

Michael L. Watters, Sr.

Mr. Watters, 56, has had complete loss of vision in his right eye due to a traumatic injury sustained in 2004. The visual acuity in his left eye is 20/25. Following an examination in 2011, his ophthalmologist noted, “In my medical opinion, Mr. Watters has sufficient vision to perform driving tasks required to operate a commercial vehicle.” Mr. Watters reported that he has driven tractor-trailer combinations for 10 years, accumulating 1.14 million miles and buses for 1 year, accumulating 3,060 miles. He holds a Class A CDL from Pennsylvania. His driving record for the last 3 years shows no crashes but two convictions for speeding in a CMV and failing to yield the right of way. He exceeded the speed limit by 5 mph.

Keith Wentz

Mr. Wentz, 60, has had a macular scar in his right eye due to radiation treatment since 2002. The best corrected visual acuity in his left eye is 20/20 and in his right eye count-finger vision. Following an examination in 2011, his ophthalmologist noted, “I feel, in my medical opinion, that he has sufficient vision to perform the driving tasks required to operate a commercial vehicle.” Mr. Wentz reported that he has driven straight trucks for 5 years, accumulating 125,000 miles and tractor-trailer combinations for 28 years, accumulating 1.4 million miles. He holds a Class A CDL from Florida. His driving record for the last 3 years shows no crashes and no convictions for moving violations in a CMV.

Request for Comments

In accordance with 49 U.S.C. 31136(e) and 31315, FMCSA requests public comment from all interested persons on the exemption petitions described in this notice. The Agency will consider all comments received before the close of business October 7, 2011. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: August 29, 2011.
Larry W. Minor,
Associate Administrator, Office of Policy.

[FR Doc. 2011-22757 Filed 9-6-11; 8:45 am]

BILLING CODE 4910-EX-P